DEPARTMENT OF COMMERCE

International Trade Administration

[A-580-861, A-570-935]

Certain Circular Welded Carbon Quality Steel Line Pipe from the Republic of Korea and the People's Republic of China: Postponement of Preliminary Determination of Antidumping Duty Investigations

AGENCY: Import Administration, International Trade Administration, Department of Commerce.

EFFECTIVE DATE: August 29, 2008.

FOR FURTHER INFORMATION CONTACT: Patrick Edwards, Dena Crossland (Republic of Korea), Jeffrey Pedersen, or Rebecca Pandolph (People's Republic of China), Office 7 and Office 4, AD/CVD Operations, Import Administration, International Trade Administration, U.S. Department of Commerce, 14th Street and Constitution Avenue, NW, Washington, DC 20230; telephone: (202) 482-8029, (202) 482-3362, (202) 482-2769, and (202) 482-3627, respectively.

SUPPLEMENTARY INFORMATION:

Postponement of Preliminary Determinations

On April 23, 2008, the Department of Commerce (the Department) initiated the antidumping duty investigations of certain circular welded carbon quality steel line pipe (line pipe) from the Republic of Korea (Korea) and the People's Republic of China (PRC). See Certain Circular Welded Carbon Quality Steel Line Pipe from the Republic of Korea and the People's Republic of China: Initiation of Antidumping Duty Investigations, 73 FR 23188 (April 29, 2008). The notice of initiation stated that the Department would issue its preliminary determinations for these investigations no later than 140 days after the date of issuance of the initiation (i.e., September 10, 2008) in accordance with section 733(b)(1)(A) of the Tariff Act of 1930, as amended (the Act).

On August 12, 2008, Maverick Tube Corporation, Tex-Tube Company, and United States Steel Corporation (collectively, the petitioners) made a timely request pursuant to 19 CFR 351.205(e) for a postponement of the preliminary determinations with respect to Korea and the PRC. Therefore, the Department is postponing the deadline for the preliminary determinations with respect to Korea and the PRC pursuant to section 733(c)(1)(A) of the Act by 50 days to October 30, 2008. The deadline for the final determination will continue to be 75 days after the date of the preliminary determination, unless extended.

This notice is issued and published pursuant to section 733(c)(2) of the Act and 19 CFR 351.205(f)(1).

Dated: August 21, 2008.
David M. Spooner,
Assistant Secretary for Import Administration.

[FR Doc. E8-20158 Filed 8-28-08; 8:45 am]

BILLING CODE 3510-DS-S